MERIT SYSTEMS PROTECTION BOARD

Privacy Act of 1974; System of Records

AGENCY: Merit Systems Protection Board

ACTION: Notice of a new system of records.

SUMMARY: In accordance with the Privacy Act of 1974, the U.S. Merit Systems Protection Board (MSPB) proposes to establish a new MSPB system of records titled “MSPB—1, Appeals and Case Records,” and is separately and simultaneously proposing rescindment of the current government-wide system of records titled “MSPB/GOVT—1, Appeals and Case Records.” Both the new system of records and the system of records to be rescinded include information that MSPB collects, maintains, and uses to perform MSPB's statutory functions.

DATES: Please submit comments on or before September 25, 2025. This new system is effective immediately, with the exception of the routine uses, which are effective September 25, 2025.

ADDRESSES: You may submit written comments to the Office of the Clerk of the Board by email to privacy@mspb.gov or by mail to Clerk of the Board, U.S. Merit Systems Protection Board, 1615 M Street NW, Washington, DC 20419. All comments must reference “MSPB—1, Appeals and Case Records SORN.” Regardless of the method used for submitting comments or material, all submissions will be posted publicly, without change, to MSPB's website (https://www.mspb.gov) and will include any personal information you provide, such as your name, address, phone number, email address, or any other personally identifying information in your comment or materials.

FOR FURTHER INFORMATION CONTACT: Gina K. Grippando, Clerk of the Board, Office of the Clerk of the Board, 1615 M Street NW, Washington, DC 20419; (202) 653-7200; privacy@mspb.gov. Please include “MSPB—1, Appeals and Case Records SORN” with your question(s).

SUPPLEMENTARY INFORMATION: In accordance with the Privacy Act of 1974, 5 U.S.C. 552a, (Privacy Act), MSPB proposes to establish a new MSPB system of records titled “MSPB—1, Appeals and Case Records” to replace the current government-wide system of records titled “MSPB/GOVT 1, Appeals and Case Records,” which it is separately and simultaneously proposing to rescind. Both the new system of records and the system of records to be rescinded include information that MSPB collects, maintains, and uses to perform MSPB's statutory functions to adjudicate appeals and other matters arising under MSPB's appellate and original jurisdiction pursuant to 5 U.S.C. 7701(a) and 5 U.S.C. 1204 (e.g., requests for disciplinary action or stays filed by the Special Counsel), and to support other statutory functions of MSPB, such as studies of the civil service under 5 U.S.C. 1204(a)(3), review of regulations of the Office of Personnel Management (OPM) under 5 U.S.C. 1204(f), and reporting under 5 U.S.C. 1206. MSPB is issuing this notice of its intent to establish a new internal system of records that will cover the same information as the government-wide system of records. A separate notice proposing to rescind “MSPB/GOVT—1, Appeals and Case Records” is published elsewhere in this issue of the Federal Register. During the previous amendment process of the current government-wide system of records, it was determined that MSPB/GOVT—1 does not strictly meet the definition of a government-wide system because no agency keeps these records under the direction of MSPB.

Once MSPB/GOVT—1 is removed from its present grouping among government-wide systems and is replaced with the new internal system, MSPB 1, agencies previously relying on MSPB/GOVT—1 will have to publish any new or revised systems notices as a result of this rescindment. MSPB's e-Appeal System exists for the purpose of facilitating the adjudication process while an appeal is before MSPB and as a location for the new internal system, MSPB—1; agencies should not rely on the e-Appeal System as the location for any new or revised system established for the agency's own use.

The Privacy Act embodies fair information practice principles in a statutory framework governing how Federal agencies collect, maintain, use, and disseminate individuals' records. The Privacy Act applies to records about individuals that are maintained in a “system of records.” A system of records is a group of any records under the control of an agency from which information is retrieved by the name of an individual or by some identifying number, symbol, or other identifying particular assigned to the individual. The Privacy Act defines an individual as a United States citizen or lawful permanent resident. Individuals may request access to their own records that are maintained in a system of records in the possession or under the control of MSPB by complying with MSPB's Privacy Act regulations at 5 CFR part 1205, and following the procedures outlined in the Records Access, Contesting Record, and Notification Procedures sections of this notice. The Privacy Act requires each agency to publish in the Federal Register a description denoting the existence and character of each system of records that the agency maintains and the routine uses of each system. “MSPB—1, Appeals and Case Records” System of Records Notice is published in its entirety below. In accordance with the Privacy Act, 5 U.S.C. 552a(r), and Office of Management and Budget (OMB) Circular A-108, “Federal Agency Responsibilities for Review, Reporting, and Publication under the Privacy Act” (Dec. 2016), MSPB has submitted a report of a new system of records to OMB and Congress.

Gina K. Grippando,
Clerk of the Board.

SYSTEM NAME AND NUMBER:

MSPB-1, Appeals and Case Records.

SECURITY CLASSIFICATION:

Unclassified.

SYSTEM LOCATION:

Records are maintained by the Office of the Clerk of the Board, U.S. Merit Systems Protection Board (MSPB), Suite 500, 1615 M Street NW, Washington, DC 20419, and MSPB regional and field offices. Records are maintained in designated U.S. data centers for cloud service providers authorized by the Federal Risk and Authorization Management Program (FedRAMP) (Seattle, WA; Redmond, WA; and Ashburn, VA), in MSPB's local area network, in locked cabinets and offices, and at the Federal Records Centers maintained by the National Archives and Records Administration (NARA).

SYSTEM MANAGER(S):

The Office of the Clerk of the Board, U.S. Merit Systems Protection Board, Suite 500, 1615 M Street NW, Washington, DC 20419, and MSPB regional and field offices (see the list of office addresses at https://www.mspb.gov and https://www.ecfr.gov/current/title-5/chapter-II/subchapter-A/part-1201).

AUTHORITY FOR MAINTENANCE OF THE SYSTEM:

5 U.S.C. 7701(a), 5 U.S.C. 1204, and 5 U.S.C. 1206.

PURPOSE(S) OF THE SYSTEM:

These records may be used to:

a. Document and adjudicate appeals and other matters arising under MSPB's appellate and original jurisdiction;

b. Locate appeal records and files, whether physical or electronic;

c. Provide statistical data for reports, staff productivity, and other management functions; and

d. Provide information to support other statutory functions of MSPB, such as studies of the civil service under 5 U.S.C. 1204(a)(3), review of regulations of OPM under 5 U.S.C. 1204(f), and reporting under 5 U.S.C. 1206.

CATEGORIES OF INDIVIDUALS COVERED BY THE SYSTEM:

a. Current and former Federal employees, applicants for employment, annuitants, and other individuals who have filed appeals with MSPB or its predecessor agency, or with respect to whom the Office of Special Counsel (OSC) or another Federal agency has petitioned MSPB concerning any matter over which MSPB has jurisdiction.

b. Current and former employees of State and local governments where OSC has petitioned MSPB concerning a possible violation of the Hatch Act.

CATEGORIES OF RECORDS IN THE SYSTEM:

Case-related records, such as the initial appeal or complaint, briefs, pleadings, motions, exhibits, hearing transcripts, and MSPB decisions, which comprise the official administrative records of appeals and other matters arising under the adjudicatory authority of MSPB, and information derived from those records maintained in MSPB's electronic case management system.

RECORD SOURCE CATEGORIES:

The sources of these records are:

a. The individual to whom the record pertains and/or their designated representative(s);

b. The Federal agency participating in the MSPB appeal or adjudicatory matter;

c. MSPB, OPM, Equal Employment Opportunity Commission (EEOC), and OSC, including records and documents compiled by Federal agencies in processing adverse actions and actions based on unacceptable performance, covered by OPM/GOVT-3, when such actions are appealed to MSPB; and

d. Other individuals or organizations from whom MSPB has received testimony, affidavits, or other documents.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside MSPB as a routine use pursuant to 5 U.S.C. 552a(b)(3) as follows:

a. To officials of EEOC or a Special Panel convened under the authority of 5 U.S.C. 7702 when requested in connection with the performance of their authorized duties.

b. To officials of OPM, the Federal Labor Relations Authority, EEOC, and OSC in connection with the performance of their authorized duties.

c. To officials of the Defense Counterintelligence and Security Agency, the Federal Bureau of Investigation, or any other agency or subagency in connection with the performance of their authorized duties related to background and suitability investigations.

d. To a member of Congress in response to an inquiry made at the request of the individual to whom the record pertains.

e. To the appropriate Federal, State, or local agency responsible for investigating, prosecuting, enforcing, or implementing a statute, rule, regulation, or order when a record, either on its face or in conjunction with other information, indicates or is relevant to a violation or potential violation of civil or criminal law or regulation.

f. To OMB at any stage in the legislative process in connection with MSPB recommendations on proposed, pending, and enrolled legislation as set forth in OMB Circular No. A-19.

g. To the Department of Justice (DOJ), including Offices of the U.S. Attorneys; another Federal agency conducting litigation or in proceedings before any court, adjudicative, or administrative body; another party or potential party or the party's or potential party's authorized representative in litigation before a court, adjudicative, or administrative body; or a court, adjudicative, or administrative body. Such disclosure is permitted only when it is relevant or necessary to the litigation or proceeding, and one of the following is a party to the litigation or has an interest in such litigation:

(1) MSPB, or any component thereof;

(2) Any employee or former employee of MSPB in their official capacity;

(3) Any employee or former employee of MSPB in their individual capacity where DOJ or MSPB has agreed to represent the employee;

(4) The United States or a Federal agency in litigation before a court, adjudicative, or administrative body; or

(5) A party, other than the United States or a Federal agency, in litigation before a court, adjudicative, or administrative body, upon the MSPB General Counsel's approval, pursuant to 5 CFR part 1216 or otherwise.

h. In any proceeding before a court or adjudicative body before which MSPB is authorized to appear when:

(1) MSPB, or any component thereof; or

(2) Any employee of MSPB in the employee's official capacity; or

(3) Any employee of MSPB in the employee's individual capacity where DOJ has agreed to represent the employee; or

(4) the United States is a party to the litigation or has an interest in such litigation and the use of such records is deemed to be relevant and necessary to the litigation, providing that the disclosure of the records is a use of information contained in the records that is compatible with the purpose for which the records were collected, or approval or consultation is required.

i. To the Transportation Security Administration where consultation is required under 49 CFR parts 15 and 1520.

j. To any person making a status inquiry regarding a proceeding before MSPB, the following information may be disclosed: name of the appellant or respondent, name of the agency, MSPB docket number, and the status of the proceeding (e.g., open, closed).

k. To authorized Federal agency representatives who handle MSPB matters and request a list of appeals involving their agency, the following information may be disclosed: name of the appellant or respondent, name of the agency, MSPB docket number, and the status of the proceeding (e.g., open, closed).

l. To NARA in records-management inspections conducted under the authority of 44 U.S.C. 2904 and 2906.

m. In response to a request for discovery or for appearance of a witness, if the requested information is relevant to the subject matter involved in a pending judicial or administrative proceeding.

n. To Federal and State agencies for the purpose of requesting that they provide MSPB with information concerning MSPB appellants. Such information will be used, absent personal identifiers, in MSPB research projects mandated by 5 U.S.C. 1204(a)(3).

o. To officials of Federal Courts in connection with the performance of their judicial functions.

p. To officials of State or local bar associations or disciplinary boards or committees when they are investigating complaints against attorneys in connection with their representation of a party before MSPB.

q. To the public, including MSPB's website, legal publishers, and public search engines, or to individuals acting in their official capacity on behalf of any Federal, State, or local agency, in response to a request for a decision following issuance of that decision.

r. To appropriate agencies, entities, and persons when: (1) MSPB suspects or has confirmed that there has been a breach of the system of records; (2) MSPB has determined that, as a result of the suspected or confirmed breach, there is a risk of harm to individuals, MSPB (including its information systems, programs, and operations), the Federal Government, or national security; and (3) the disclosure made to such agencies, entities, and persons is reasonably necessary to assist in connection with MSPB's efforts to respond to the suspected or confirmed breach or to prevent, minimize, or remedy such harm.

s. To another Federal agency or Federal entity when MSPB determines that information from this system of records is reasonably necessary to assist the recipient agency or entity in: (1) responding to a suspected or confirmed breach; or (2) preventing, minimizing, or remedying the risk of harm to individuals, the recipient agency or entity (including its information systems, programs, and operations), the Federal Government, or national security, resulting from a suspected or confirmed breach.

t. To recognized pro bono legal service providers or representatives considering and/or agreeing to represent an appellant. The following information may be disclosed: name of the appellant or respondent, appellant or respondent telephone number, physical address, or email address, and MSPB docket number.

POLICIES AND PRACTICES FOR STORAGE OF RECORDS:

Records are maintained by the Office of the Clerk of the Board, U.S. Merit Systems Protection Board, Suite 500, 1615 M Street NW, Washington, DC 20419, and MSPB regional and field offices (see the list of office addresses at https://www.mspb.gov). Records are maintained in designated U.S. data centers for cloud service providers authorized by FedRAMP, MSPB's local area network, locked cabinets and offices, and at the Federal Records Centers maintained by NARA.

POLICIES AND PRACTICES FOR RETRIEVAL OF RECORDS:

These records are retrieved by the names of the individuals on whom they are maintained and by MSPB docket numbers.

POLICIES AND PRACTICES FOR RETENTION AND DISPOSAL OF RECORDS:

Records are retained and disposed of in accordance with the applicable records schedule for the systems from which they were collected. Any unscheduled records will be retained indefinitely, until they have been scheduled with NARA and have become eligible for disposition under those schedules.

ADMINISTRATIVE, TECHNICAL, AND PHYSICAL SAFEGUARDS:

MSPB limits access to these records to persons whose official duties require such access. MSPB protects records in the system from unauthorized access and misuse through various administrative, technical, and physical security measures, such as access controls, mandatory security and privacy training, encryption, multi-factor authentication, security guards, and locked offices. RECORD ACCESS PROCEDURES: Individuals seeking notification of and access to their records in this system of records may submit a request in writing to the Office of the Clerk of the Board, U.S. Merit Systems Protection Board, 1615 M Street NW, Washington, DC 20419, or by email to privacy@mspb.gov. Individuals requesting access must comply with MSPB's Privacy Act regulations regarding verification of identity and access to records (5 CFR part 1205).

CONTESTING RECORD PROCEDURES:

Individuals may request that records about them be amended by writing to the Office of the Clerk of the Board, U.S. Merit Systems Protection Board, 1615 M Street NW, Washington, DC 20419. Individuals requesting amendment must follow MSPB's Privacy Act regulations regarding verification of identity and amendment to records (5 CFR part 1205). These provisions for amendment of the record do not permit the alteration of evidence presented in the course of an MSPB adjudication, either before or after MSPB has rendered a decision on the appeal.

NOTIFICATION PROCEDURES:

See Record Access Procedures above.

EXEMPTIONS PROMULGATED FOR THE SYSTEM:

None.

HISTORY:

For rescindment, MSPB/GOVT—1, Appeals and Case Records, 77 FR 65206 (October 25, 2012).

[FR Doc. 2025-16314 Filed 8-25-25; 8:45 am]

BILLING CODE 7400-01-P